DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collections: (1) Claimant Medical Reimbursement Form (CA-915); and (2) NCPDC Universal Pharmacy Billing Form (79-1A). Copies of the proposed information collection requests can be obtained by contacting the office listed below in the addressee section of this Notice.

DATES: Written comments must be submitted to the office listed in the addressee section below on or before October 10, 2000.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

Claimant Medical Reimbursement Form (CA-915)

I. Background

The Office of Workers' Compensation Programs (OWCP) administers the Federal Employees' Compensation Act (FECA) (5 U.S.C. 8101, et. seq.). The statute provides, in addition to compensation for employment-related injury and/or disability, payment to providers for certain medical treatment and diagnostic services related to the injury or disability. To determine whether the medical bills submitted by providers of medical services, drugs, equipment, supplies, and other therapy are appropriate, FECA requires that the provider billing the government supply certain information. The CA-915 provides a standardized format for the beneficiary (injured employee) to bill OWCP for recovery of fees paid in connection with their treatment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to provide payment for certain covered medical services to injured employees who are covered under the FECA.

Type of Review: Extension.

Agency: Employment Standards Administration.

Title: Claimant Medical Reimbursement Form.

OMB Number: 1215-0193.

Agency Number: CA-915.

Affected Public: Individuals or households; Federal Government.

Total Respondents: 41,907.

Frequency: On occasion.

Total Responses: 41,907.

Time per Response: 10 minutes.

Estimated Total Burden Hours: 6,597.

Total Burden Cost (capital/startup): $0.

Total Burden Cost (operating/maintenance): $15,086.52

NCPDP Universal Pharmacy Billing Form (79-1A)

I. Background

The Office of Workers' Compensation Programs (OWCP) administers the Federal Employees' Compensation Act (FECA) (5 U.S.C. 8101, et. seq.), and the Federal Black Lung Benefits provisions of the Federal Mine Safety and Health Act (30 U.S.C. 901 et. seq.). These statutes provide, in addition to compensation for employment-related injury and/or disability, payment to providers for certain medical treatment and diagnostic services related to the injury or disability. To determine whether the medical bills submitted by providers of medical services, drugs, equipment, supplies, and other therapy are appropriate, both FECA and Black Lung Programs require that the provider billing the government supply certain information. The National Council for Prescription Drug Programs (NCPDP) Universal Pharmacy Billing form (79-1A) is in common use by pharmacies throughout the nation and considered the universal billing form for pharmaceuticals. It is the bill format commonly accepted by Federal programs and private insurance carriers for the purpose of reimbursement of covered pharmaceuticals.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to provide payment for pharmaceuticals covered under the Acts.

Type of Review: Extension.

AGENCY: Employment Standards Administration.

Title: NCPDP Universal Pharmacy Billing Form.

OMB Number: 1215-0194.

Agency Number: 79-1A.

Affected Public: Business or other for-profit; Not-for-profit institutions; Individuals or households; Federal Government; State, Local or Tribal Government.

Total Respondents: 594,974.

Frequency: On occasion.

Total Responses: 594,974.

Time per Response: 5 minutes.

Estimated Total Burden Hours: 48,382.

Total Burden Cost (capital/startup): $0.

Total Burden Cost (operating/maintenance): $17,864.

Comments submitted in response to this notice will be summarized and/or included in the request for Office of Management and Budget approval of the information collection request; they will also become a matter of public record.

Dated: August 8, 2000.
Margaret J. Sherrill,
Chief, Branch of Management Review and Internal Control, Division of Financial Management, Office of Management, Administration and Planning, Employment Standards Administration.

[FR Doc. 00-20420 Filed 8-10-00; 8:45 am]

BILLING CODE 4510-47-P